DEPARTMENT OF HEALTH AND HUMAN SERVICES

Centers for Medicare & Medicaid Services

[Document Identifier: CMS 10171, CMS-250-254, and CMS-R-305]

Agency Information Collection Activities: Proposed Collection; Comment Request

Agency: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Coordination of Benefits between Part D Plans and Other Prescription Coverage Providers; Form Number: CMS 10171 (OMB#: 0938-0978); Use: Section 1860D-23 and 1860D-24 of the Social Security Act requires the Secretary to establish requirements for prescription drug plans to ensure the effective coordination between Part D plans, State pharmaceutical assistance programs and other payers. The requirements must relate to the following elements: (1) enrollment file sharing; (2) claims processing and payment; (3) claims reconciliation reports; (4) application of the protections against high out-of-pocket expenditures by tracking True out-of-pocket (TrOOP) expenditures; and (5) other processes that the Secretary determines. This information will be used by Part D plans, other health insurers or payers, pharmacies and CMS to coordinate prescription drug benefits provided to the Medicare beneficiary.; Frequency: Reporting—Monthly; Affected Public: Business or other for-profit, Federal, State, Local and or Tribal Government; Number of Respondents: 56,320; Total Annual Responses: 2,153,767,270; Total Annual Hours: 1,017,914.

2. Type of Information Collection Request: Extension of a currently approved collection; Title of Information Collection: Medicare Secondary Payer Information Collection and Supporting Regulations in 42 CFR 411.25, 489.2, and 489.20; Form Number: CMS 250-254 (OMB#: 0938-0214); Use: Medicare Secondary Payer Information (MSP) is essentially the same concept known in the private insurance industry as coordination of benefits, and refers to those situations where Medicare does not have primary responsibility for paying the medical expenses of a Medicare beneficiary. Medicare Fiscal Intermediaries, Carriers, and now Part D plans, need information about primary payers in order to perform various tasks to detect and process MSP cases and make recoveries. MSP information is collected at various times and from numerous parties during a beneficiary's membership in the Medicare Program. Collecting MSP information in a timely manner means that claims are processed correctly the first time, decreasing the costs associated with adjusting claims and recovering mistaken payments.; Frequency: Reporting—On Occasion; Affected Public: Individuals or Households, Business or other for-profit, Not-for-profit institutions; Number of Respondents: 134,553,682; Total Annual Responses: 134,553,682; Total Annual Hours: 1,611,303.

3. Type of Information Collection Request: Extension of a currently approved collection; Title of Information Collection: External Quality Review for Medicaid Managed Care Organizations (MCOs); Form Number: CMS-R-305 (OMB#: 0938-0786); Use: The results of Medicare reviews, Medicare accreditation surveys, and Medicaid external quality reviews will be used by States in assessing the quality of care provided to Medicaid beneficiaries provided by MCOs and to provide information on the quality of the care provided to the general public upon request; Frequency: Annually; Affected Public: Business or other for-profit, State, Local and or Tribal Government; Number of Respondents: 542; Total Annual Responses: 14,266; Total Annual Hours: 648,877.

To obtain copies of the supporting statement and any related forms for the proposed paperwork collections referenced above, access CMS' Web Site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received at the address below, no later than 5 p.m. on March 21, 2006.

CMS, Office of Strategic Operations and Regulatory Affairs, Division of Regulations Development—C, Attention: Bonnie L Harkless, Room C4-26-05, 7500 Security Boulevard, Baltimore, Maryland 21244-1850.

Dated: January 12, 2006.
Michelle Shortt,
Director, Regulations Development Group, Office of Strategic Operations and Regulatory Affairs.

[FR Doc. E6-628 Filed 1-19-06; 8:45 am]

BILLING CODE 4120-01-P